DEPARTMENT OF EDUCATION

Applications for New Awards; Digital Learning Infrastructure and IT Modernization Pilot

AGENCY: Office of Postsecondary Education, Department of Education.

ACTION: Notice.

SUMMARY: The Department of Education (Department) is issuing a notice inviting applications for fiscal year (FY) 2022 for the Digital Learning Infrastructure and IT Modernization Pilot, Assistance Listing Number 84.116L. This notice relates to the approved information collection under OMB control number 1894-0006.

DATES: Applications Available: October 25, 2022.

Deadline for Transmittal of Applications: November 25, 2022.

ADDRESSES: For the addresses for obtaining and submitting an application, please refer to our Common Instructions for Applicants to Department of Education Discretionary Grant Programs, published in the Federal Register on December 27, 2021 (86 FR 73264) and available at www.federalregister.gov/d/2021-27979. Please note that these Common Instructions supersede the version published on February 13, 2019, and, in part, describe the transition from the requirement to register in SAM.gov a Data Universal Numbering System (DUNS) number to the implementation of the Unique Entity Identifier (UEI). More information on the phaseout of DUNS numbers is available at https://www2.ed.gov/about/offices/list/ofo/docs/unique-entity-identifier-transition-fact-sheet.pdf.

FOR FURTHER INFORMATION CONTACT: Pearson Owens, U.S. Department of Education, 400 Maryland Avenue SW, Room 2B109, Washington, DC 20202-4260. Telephone: (202) 453-7997. Email: Pearson.Owens@ed.gov.

If you are deaf, hard of hearing, or have a speech disability and wish to access telecommunications relay services, please dial 7-1-1.

SUPPLEMENTARY INFORMATION:

Full Text of Announcement

I. Funding Opportunity Description

Purpose of Program: The Digital Learning Infrastructure and IT Modernization Pilot provides grants to Historically Black Colleges and Universities (HBCUs), Tribal Colleges or Universities (TCUs), and other eligible minority-serving institutions (MSIs) to support IT modernization, and to enable them to provide support and technical assistance to expand their digital learning infrastructure.

Background: Digital infrastructure brings together and interconnects multiple resources, including physical, virtual, human, and social. Physical and virtual resources include technologies, such as computer, storage, network, application, and various platforms, to build the foundation for an institution of higher education's (IHE) digital operation. Human and social resources include the human knowledge and skills, professional development, and ongoing technical assistance needed to sustain an institution's digital operation. As such, digital learning infrastructure encompasses the key data systems, technologies, and human capital, needed to enable actions that allow for everywhere, all-the-time learning and ensure greater equity and accessibility to learning opportunities for students, staff, and faculty in person, at a distance, or a combination thereof. Over the last two years, as a result of the COVID-19 pandemic, IHEs pivoted to increase their online learning footprint, and both students and institutions have become more dependent on virtual learning and technologies that support hybrid learning environments.

These changes in how institutions incorporate technologies in learning bring about challenges, such as the need for improved infrastructure that allows for adoption of reliable, high-speed devices and broadband (as defined in this notice) for multiple users and other technologies that allow for student engagement. Congress included $4 million in the Consolidated Appropriations Act, 2022 (Pub. L. 117-103) to strengthen digital learning infrastructure at MSIs, HBCUs, and TCUs.

Given the need of many HBCUs, TCUs, and other MSIs to improve upon their technologies and systems to continue to upgrade their opportunities for virtual learning, the grant program seeks applications from these institutions to enhance their digital learning infrastructure. In this competition we require applicants to develop or enhance and implement digital learning infrastructure plans that address the leadership, human capital, instruction, and IT strategies that will improve the institution's capacity to seamlessly expand learning and promote innovation that improves student outcomes. Additionally, we are requiring applicants to include dissemination plans of their digital learning infrastructure plans to other institutions.

Priority: This notice contains one absolute priority.

We are establishing this priority for the FY 2022 grant competition and any subsequent year in which we make awards from the list of unfunded applications from this competition, in accordance with section 437(d)(1) of the General Education Provisions Act (GEPA), 20 U.S.C. 1232(d)(1).

Absolute Priority: This priority is an absolute priority. Under 34 CFR 75.105(c)(3), we consider only applications that meet this priority.

This priority is:

Projects to Develop or Improve the Institution's Digital Learning Infrastructure.

Proposed projects that address all of the following areas:

(a) Leadership: Describe how the institution will equitably and efficiently sustain progress toward digital learning and how institutional governance, resources, and collaboration with external partners will support and drive change to improve the learning environment for students, faculty, and staff.

(b) Human Capacity: Describe the institution's plan to address the professional development needs of leadership, faculty, and staff, which will allow for active learning opportunities enabled through technology for students as they work toward a certificate or degree.

(c) Approach to networks and infrastructure: Describe how the institution will strategically maximize resources to provide equitable access to and adoption of devices and broadband (as defined in this notice) and ensure adequate infrastructure for digital learning, including reliable, high-speed access. Applicants must describe how their projects will ensure greater equity and accessibility to learning opportunities for all students by providing support to ensure that the technology supports active teaching and learning practices.

(d) Content, Instruction, and Assessment: Describe how vendors will be vetted and evaluated to ensure that their products and services can meet the institution's digital learning infrastructure needs and goals for high-quality, active teaching and learning. The plan must address how the institution will develop and implement standards for high-quality digital learning in their courses and programs, provide coaching and professional development for faculty and leadership, and support students in the adoption and effective use of technology for learning.

(e) Coordination and collaboration: Describe how the institution will take a systemic approach by collaborating with other IHEs and/or other public, private, and nonprofit entities toward a systemic approach to address the purchase of broadband internet access service and/or any eligible equipment, and the hiring and training of information technology personnel.

Definitions: We are establishing definitions for “adoption of devices and broadband,” “digital learning infrastructure,” “high speed access,” “Historically Black colleges and universities,” “minority-serving institution,” and “Tribal College or University” for the FY 2022 grant competition and any subsequent year in which we make awards from the list of unfunded applications from this competition, in accordance with section 437(d)(1) of GEPA. The remaining definitions are from 34 CFR part 77.1.

Adoption of devices and broadband means the process by which an individual obtains daily access to the internet at a speed, quality, and capacity that qualifies as an advanced telecommunications capability with the digital skills that are necessary for the individual to participate in online learning, on a personal device, and on a secure and convenient network.

Demonstrates a rationale means a key project component included in the project's logic model is informed by research or evaluation findings that suggest the project component is likely to improve relevant outcomes.

Digital learning infrastructure means physical, virtual, human, and social assets related to the sustainable dissemination and adoption of digital technologies for learning. Physical and virtual assets include, but are not limited to, mobile and internet communications, spectrum, macro cell towers, data centers, fiber networks, and small cell networks, used both synchronously and asynchronously. Human and social assets include, but are not limited to, personnel recruitment, knowledge/needs assessments, resources, professional development, and technical assistance needed to sustain the dissemination and adoption of digital technologies for learning.

High speed access means access that is not less than 100 megabits per second for downloads nor 20 megabits per second for uploads and latency that is sufficient to support real-time, interactive applications.

Historically Black colleges and universities means colleges and universities that meet the criteria set out in 34 CFR 608.2.

Logic model (also referred to as a theory of action) means a framework that identifies key project components of the proposed project (i.e., the active “ingredients” that are hypothesized to be critical to achieving the relevant outcomes) and describes the theoretical and operational relationships among the key project components and relevant outcomes.

Note: In developing logic models, applicants may want to use resources such as the Regional Educational Laboratory Program's (REL Pacific) Education Logic Model Application, available at https://ies.ed.gov/ncee/edlabs/regions/pacific/elm.asp, to help design their logic models. Other sources include: https://ies.ed.gov/ncee/edlabs/regions/pacific/pdf/REL_2014025.pdf, https://ies.ed.gov/ncee/edlabs/regions/pacific/pdf/REL_2014007.pdf, and https://ies.ed.gov/ncee/edlabs/regions/northeast/pdf/REL_2015057.pdf.

Minority-serving institution means an institution that is eligible to receive assistance under sections 316 through 320 of part A of title III, under part B of title III, or under title V of the Higher Education Act of 1965, as amended (HEA).

Project component means an activity, strategy, intervention, process, product, practice, or policy included in a project. Evidence may pertain to an individual project component or to a combination of project components (e.g., training teachers on instructional practices for English learners and follow-on coaching for these teachers).

Relevant outcome means the student outcome(s) or other outcome(s) the key project component is designed to improve, consistent with the specific goals of the program.

Tribal College or University has the meaning ascribed it in section 316(b)(3) of the HEA.

Waiver of Proposed Rulemaking: Under the Administrative Procedure Act (5 U.S.C. 553), the Department generally offers interested parties the opportunity to comment on proposed priorities, selection criteria, definitions, and other requirements. Section 437(d)(1) of GEPA, however, allows the Secretary to exempt from rulemaking requirements regulations governing the first grant competition under a new or substantially revised program authority. This is the first grant competition for this program under 20 U.S.C. 1138-1138d of the HEA, and therefore qualifies for this exemption. In order to ensure timely grant awards, the Secretary has decided to forgo public comment on the priority, definitions, and funding requirements under section 437(d)(1) of GEPA.

Program Authority: 20 U.S.C. 1138-1138d; the Explanatory Statement accompanying Division H of the Consolidated Appropriations Act, 2022 (Pub. L. 117-103).

Note: Projects will be awarded and must be operated in a manner consistent with the nondiscrimination requirements contained in Federal civil rights laws.

Applicable Regulations: (a) The Education Department General Administrative Regulations in 34 CFR parts 75, 77, 79, 82, 84, 86, 97, 98, and 99. (b) The Office of Management and Budget Guidelines to Agencies on Governmentwide Debarment and suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Type of Award: Discretionary grants.

Estimated Available Funds: $3,895,200.

Contingent upon the availability of funds and the quality of applications, we may make additional awards in subsequent years from the list of unfunded applications from this competition.

Estimated Range of Awards: $750,000 to $973,800.

Estimated Average Size of Awards: $861,900.

Maximum Award: $973,800.

Estimated Number of Awards: 4.

Note: The Department is not bound by any estimates in this notice.

Project Period: 36 months.

III. Eligibility Information

1. Eligible Applicants: Minority-serving institutions (as defined in this notice) including HBCUs (as defined in this notice) and TCUs (as defined in this notice).

Note: The notice announcing the FY 2022 process for designation of eligible institutions and inviting applications for waiver of eligibility requirements was published in the Federal Register on December 16, 2021 (86 FR 71470). The eligibility designation process was reopened and published in the Federal Register on February 7, 2022, and closed on February 18, 2022 (87 FR 6855). Only institutions that the Department determined to be eligible, or which were granted a waiver under the process described in that notice, may apply for a grant in this program.

2. a. Cost Sharing or Matching: This program does not require cost sharing or matching.

b. Supplement-Not-Supplant: This competition involves supplement-not-supplant funding requirements. This program uses the waiver authority of section 437(d)(1) of GEPA to establish this as a supplement-not-supplant program. Grant funds must be used so that they supplement and, to the extent practical, increase the funds that would otherwise be available for the activities to be carried out under the grant and in no case supplant those funds.

c. Indirect Cost Rate Information: This program uses the waiver authority of section 437(d)(1) of GEPA to limit a grantee's indirect cost reimbursement to 8 percent of a modified total direct cost base. For more information regarding indirect costs, or to obtain a negotiated indirect cost rate, please see www2.ed.gov/about/offices/list/ocfo/intro.html.

d. Administrative Cost Limitation: This program does not include any program-specific limitation on administrative expenses. All administrative expenses must be reasonable and necessary and conform to cost principles described in 2 CFR part 200 subpart E of the Uniform Guidance.

3. Subgrantees: A grantee under this competition may not award subgrants to entities to directly carry out project activities described in its application.

IV. Application and Submission Information

1. Application Submission Instructions: Applicants are required to follow the Common Instructions for Applicants to Department of Education Discretionary Grant Programs, published in the Federal Register on December 27, 2021 (86 FR 73264) and available at www.federalregister.gov/d/2021-27979. Please note that these Common Instructions supersede the version published on February 13, 2019, and, in part, describe the transition from the requirement to register in SAM.gov a Data Universal Numbering System (DUNS) number to the implementation of the Unique Entity Identifier (UEI). More information on the phase-out of DUNS numbers is available at www2.ed.gov/about/offices/list/ofo/docs/unique-entity-identifier-transition-fact-sheet.pdf.

2. Intergovernmental Review: This competition is subject to Executive Order 12372 and the regulations in 34 CFR part 79. However, under 34 CFR 79.8(a), we waive intergovernmental review in order to make awards in a timely manner.

3. Funding Restrictions: We reference regulations outlining funding restrictions in the Applicable Regulations section of this notice.

4. Recommended Page Limit: The application narrative is where you, the applicant, address the selection criteria that reviewers use to evaluate your application. We recommend that you (1) limit the application narrative to no more than 50 pages and (2) use the following standards:

• A “page” is 8.5′ x 11′, on one side only, with 1″ margins at the top, bottom, and both sides.

• Double-space (no more than three lines per vertical inch) all text in the application narrative. This does not apply to titles, headings, footnotes, quotations, references, and captions as well as all text in charts, tables, figures, and graphs.

• Use a font that is either 12 point or larger, and no smaller than 10 pitch (characters per inch).

• Use one of the following fonts: Times New Roman, Courier, Courier New, or Arial.

The recommended page limit does not apply to the cover sheet; the budget section, including the narrative budget justification; the assurances and certifications; or the one-page abstract. However, the recommended page limit does apply to all of the application narrative.

Note: The Budget Information-Non-Construction Programs Form (ED 524) Sections A-C are not the same as the narrative response to the Budget section of the selection criteria.

V. Application Review Information

1. Selection Criteria: The following selection criteria for this competition are from 34 CFR 75.210. Applicants should address each of the following selection criteria separately for each proposed activity. The selection criteria are worth a total of 100 points; the maximum score for each criterion is noted in parentheses.

(a) Significance. (Maximum 15 points)

The Secretary considers the significance of the proposed project. In determining the significance of the proposed project, the Secretary considers:

(1) The significance of the problem or issue to be addressed by the proposed project. (5 points)

(2) The potential contribution of the proposed project to increased knowledge or understanding of educational problems, issues, or effective strategies. (5 points)

(3) The likelihood that the proposed project will result in system change or improvement. (5 points)

(b) Quality of the project design. (Maximum 35 points)

The Secretary considers the quality of the design of the proposed project. In determining the quality of the design of the proposed project, the Secretary considers:

(1) The extent to which the goals, objectives, and outcomes to be achieved by the proposed project are clearly specified and measurable. (15 points)

(2) The extent to which the design of the proposed project is appropriate to, and will successfully address, the needs of the target population or other identified needs. (10 points)

(3) The extent to which the proposed project demonstrates a rationale (as defined in this notice). (10 points)

(c) Quality of project services. (Maximum 10 points)

The Secretary considers the quality of the services to be provided by the proposed project.

(1) In determining the quality of the services to be provided by the proposed project, the Secretary considers the quality and sufficiency of strategies for ensuring equal access and treatment for eligible project participants who are members of groups that have traditionally been underrepresented based on race, color, national origin, gender, age, or disability. (3 points)

(2) In addition, the Secretary considers:

(i) The extent to which the services to be provided by the proposed project are appropriate to the needs of the intended recipients or beneficiaries of those services. (3 points)

(ii) The extent to which the services to be provided by the proposed project reflect up-to-date knowledge from research and effective practice. (4 points)

(d) Quality of the management plan. (Maximum 20 points)

The Secretary considers the quality of the management plan for the proposed project. In determining the quality of the management plan for the proposed project, the Secretary considers:

(1) The adequacy of the management plan to achieve the objectives of the proposed project on time and within budget, including clearly defined responsibilities, timelines, and milestones for accomplishing project tasks. (5 points)

(2) The adequacy of procedures for ensuring feedback and continuous improvement in the operation of the proposed project. (10 points)

(3) The adequacy of mechanisms for ensuring high-quality products and services from the proposed project. (5 points)

(e) Quality of the project evaluation. (Maximum 20 points)

The Secretary considers the quality of the evaluation to be conducted of the proposed project. In determining the quality of the evaluation, the Secretary considers:

(1) The extent to which the methods of evaluation are thorough, feasible, and appropriate to the goals, objectives, and outcomes of the proposed project. (10 points)

(2) The extent to which the methods of evaluation include the use of objective performance measures that are clearly related to the intended outcomes of the project and will produce quantitative and qualitative data to the extent possible. (10 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

For this competition, a panel of external reviewers will read, prepare a written evaluation of, and score all eligible applications using the selection criteria provided in this notice. The individual scores of the reviewers will be added and the sum divided by the number of reviewers to determine the peer review score. The Department will prepare a rank order of applications based on the evaluation of their quality according to the selection criteria.

In the event there are two or more applications with the same final score in the rank order listing, and there are insufficient funds to fully support each of these applications, the Department will apply the following procedure to determine which application or applications will receive an award:

First Tiebreaker: The first tiebreaker will be the highest average score for the selection criterion “Quality of Project Services.” If a tie remains, a second tiebreaker will be utilized.

Second Tiebreaker: The second tiebreaker will be the highest average score for the selection criterion “Quality of the Project Design.” If a tie remains, a third tiebreaker will be utilized.

Third Tiebreaker: The third tiebreaker will be the institution with the highest percentage of degree/certificate-seeking students who are Pell grant recipients, according to the most recent collection from the Integrated Postsecondary Education Data System.

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: Under 34 CFR 75.110, the Department will use the following performance measures to evaluate the success of the Digital Learning Infrastructure and IT Modernization Pilot Program:

(a) The number of courses—added or enhanced—supported by this program that support digital learning.

(b) The number and percentage of students enrolled in such courses disaggregated by race of students.

(c) The percentage of grantees that attain or exceed the targets for the outcome indicators for their projects.

(d) The percentage of grantees that report an increase in faculty, staff, and students engaged in digital learning efforts.

(e) The number of capacity building activities offered by the institution (e.g., trainings, technical assistance) in areas related to the digital learning infrastructure plan.

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Nasser H. Paydar,
Assistant Secretary for Postsecondary Education.

[FR Doc. 2022-23220 Filed 10-24-22; 8:45 am]

BILLING CODE 4000-01-P